DEPARTMENT OF HEALTH AND HUMAN SERVICES

Centers for Disease Control and Prevention

[60Day-05AA]

Proposed Data Collections Submitted for Public Comment and Recommendations

In compliance with the requirement of Section 3506(c)(2)(A) of the Paperwork Reduction Act of 1995 for opportunity for public comment on proposed data collection projects, the Centers for Disease Control and Prevention (CDC) will publish periodic summaries of proposed projects. To request more information on the proposed projects or to obtain a copy of the data collection plans and instruments, call 404-498-1210 or send comments to Seleda Perryman, CDC Assistant Reports Clearance Officer, 1600 Clifton Road, MS-E11, Atlanta, GA 30333 or send an email to omb@cdc.gov.

Comments are invited on: (a) Whether the proposed collection of information is necessary for the proper performance of the functions of the agency, including whether the information shall have practical utility; (b) the accuracy of the agency's estimate of the burden of the proposed collection of information; (c) ways to enhance the quality, utility, and clarity of the information to be collected; and (d) ways to minimize the burden of the collection of information on respondents, including through the use of automated collection techniques or other forms of information technology. Written comments should be received within 60 days of this notice.

Proposed Project

EHDI Hearing Screening and Follow-up Survey—New—National Center on Birth Defects and Developmental Disabilities (NCBDDD), Centers for Disease Control and Prevention (CDC).

Background and brief description: CDC, National Center on Birth Defects and Developmental Disabilities promotes the health of babies, children, and adults with disabilities. As part of the mission of CDC, the National Center on Birth Defects and Developmental Disabilities is actively involved in addressing hearing loss (HL) among newborns and infants. HL is a common birth defect that affects approximately 12,000 infants each year and, when left undetected, can result in developmental delays. As awareness about infant HL increases, so does the demand for accurate information about rates of screening, referral, loss to follow-up, and incidence. This information is important for helping to ensure infants and children are receiving recommended screening and follow-up services, documenting the occurrence and etiology of differing degrees of HL among infants, and determining the overall impact of infant HL on future outcomes, such as cognitive development, and family dynamics. These data will also assist state EHDI programs with quality improvement activities and provide information that will be helpful in assessing the impact of Federal initiatives. The public will be able to access this information via the CDC-EHDI Web site http://www.cdc.gov/ncbddd/ehdi/.

Given the lack of a standardized and readily accessible source of data, CDC's Early Hearing Detection and Intervention (EHDI) program has developed a survey to be used annually that utilizes uniform definitions to collect aggregate, standardized EHDI data from states and territories. This survey is based on a form developed by the Directors of Speech and Hearing Programs in State Health and Welfare Agencies (DSHPSHWA), which is a nongovernmental agency that gave CDC-EHDI permission to use their survey form. After year 2004, DSHPSHWA no longer plans to disseminate this or any other EHDI-related data collection form. There are no costs to respondents other than their time.

Annualized Burden Table
Respondents | Number of respondents | Number of responses per respondent | Average burden per response (in hrs.) | Total burden hours
State and territory EHDI Program Coordinators | 53 | 1 | 4 | 212
Total |  |  |  | 212

Dated: October 18, 2004.
Alvin Hall,
Director, Management Analysis and Services Office, Centers for Disease Control and Prevention.

[FR Doc. 04-23813 Filed 10-22-04; 8:45 am]

BILLING CODE 4163-18-P